ENVIRONMENTAL PROTECTION AGENCY

[FRL-8528-3]

Notice of Availability of the Nanomaterial Research Strategy External Review Draft and Expert Peer Review Meeting

AGENCY: Environmental Protection Agency (EPA).

ACTION: Notice of document availability and external peer review meeting.

SUMMARY: The U.S. Environmental Protection is announcing the availability of a draft report titled, Draft Nanomaterial Research Strategy (EPA/600/S-08/002), which was prepared by EPA's Office of Research and Development (ORD). EPA is also announcing that Versar, Inc., an EPA contractor for external peer review, will convene a panel of experts and will organize and conduct an independent expert external peer meeting April 11, 2008, to review the draft document. Versar, Inc. invites the public to register to attend this meeting as observers. In addition, Versar, Inc. invites the public to give oral comments or provide written comments at the external peer review meeting regarding the draft document under review. The expert panel will review the draft document and consider public comments received prior to the meeting in the official public docket for this activity under docket ID number EPA-HQ-ORD-2008-0114 as well as comments made by the public at the meeting. The draft document is available through http://www.regulations.gov and at http://es.epa.gov/ncer/nano/publications/index.html. In preparing a final document, EPA will consider Versar, Inc.'s report of the comments and recommendations from the external peer-review meeting, as well as public comments. EPA plans to issue a final research strategy for nanomaterials in 2008.

The public release of this draft document is solely for the purpose of seeking public comment and external peer review. This draft research strategy does not represent and should not be construed to represent any EPA policy, viewpoint, or determination.

DATES: The peer review panel meeting will begin on April 11, 2008, at 9 a.m. and end at 5 p.m. The public comment period begins on February 7, 2008, and ends 30-days after publication in the Federal Register. Technical comments should be in writing and must be received by EPA 30-days after publication of the Federal Register Notice.

ADDRESSES: The independent expert external peer review meeting will be held at the Westin Alexandria, located at 400 Courthouse Square, Alexandria, VA; telephone 703-253-8600. Members of the public may attend the meeting as observers, and there will be a limited time for comments from the public in the afternoon. Space is limited, and reservations will be accepted on a first-come-first-served basis. To attend this meeting, register by April 4, 2008, by visiting http://epa.versar.com/nanostrategy or contact Ms.Gina Casciano of Versar, Inc., 6850 Versar Center, Springfield, VA, 22151, at 703-642-6813, and via e-mail at GCasciano@Versar.com. You will be asked for your name, contact information, the organization you represent, and your title. Please indicate if you intend to make an oral statement during the public comment period at the meeting.

You may also submit comments prior to the meeting, identified by Docket ID No. EPA-HQ-ORD-2008-0114, by one of the following methods:

• http://www.regulations.gov: Follow the on-line instructions for submitting comments.

• E-mail: ORD.Docket@epa.gov.

• Mail: ORD Docket, Environnemental Protection Agency, Mailcode: 28221T, 1200 Pennsylvania Ave., NW., Washington, DC 20460.

• Hand Delivery: EPA Docket Center (EPA/DC), Room B102, EPA West Building, 1301 Constitution Avenue, NW., Washington, DC 20460, Attention Docket ID No. EPA-HQ-ORD-2008-0114. Deliveries are only accepted from 8:30 a.m. to 4:30 p.m., Monday through Friday, excluding legal holidays. Special arrangements should be made for deliveries of boxed information. If you provide comments by mail or hand delivery, please submit three copies of the comments. For attachments, provide and index, number pages consecutively with the comments, and submit an unbound original and three copies.

Instructions: Direct your comments to Docket ID No. EPA-HQ-ORD-2008-0114. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA, without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the ORD Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the ORD Docket is (202) 566-1752.

FOR FURTHER INFORMATION CONTACT: Questions regarding logistics for the external peer review meeting should be directed to Ms. Gina Casciano, Versar, Inc., 6850 Versar Center, Springfield, VA, 22151; telephone: 703-642-6813; or via e-mail at GCasciano@Versar.com. For questions regarding the draft document, please contact Dr. Nora Savage, Office of Research and Development, Mailcode 8722F, Telephone 202-343-9858, fax number 202-233-0678, savage.nora@epa.gov; or Dr. Randy Wentsel Office of Research & Development, Mail Code 8101R, Telephone 202-564-3214, fax number 202-564-3214, email wentsel.randy@epa.gov; Environmental Protection Agency, 1200 Pennsylvania Avenue, NW., Washington, DC 20460.

SUPPLEMENTARY INFORMATION: EPA is submitting the Draft Nanomaterial Research Strategy for independent, external peer review. Public comments received in the docket will be shared with the external peer review panel for their consideration. Although EPA is under no obligation to do so, EPA may consider comments received after the close of the comment period. The public release of this draft document is solely for the purpose of seeking public comment and peer review. This draft research strategy does not represent and should not be construed to represent any EPA policy, viewpoint, or determination.

The Draft Nanomaterial Research Strategy identifies research needs and outlines research for environmental implications; recognizing the latter need for exploring environmental applications of nanotechnology that can inform the appropriate regulatory and policy decisions for nanotechnology. The draft research strategy provides a discussion of research to be conducted both in-house and extramurally to understand the impact of engineered nanomaterials. The purpose of this strategy is to guide the EPA's Office of Research and Development (ORD) program in nanomaterial research. The strategy builds on and is consistent with the foundation of scientific needs identified in the report by the Nanotechnology Environmental and Health Implications (NEHI) Workgroup (NSTC, 2006), and on the EPA White Paper on Nanotechnology (EPA, 2007). Special attention is given to EPA's role among Federal Agencies in addressing data needs for hazard assessment, risk assessment, and risk management relevant to the EPA mission and regulatory responsibilities. ORD will use the NRS and incorporate these research activities into the multi-year planning process.

ORD has identified four key research themes and seven key scientific questions addressing each of the research themes where we can provide leadership for the Federal government research program and support the science needs of the Agency. The themes are: (1) Sources, fate, transport, and exposure; (2) human health and ecological research; (3) risk assessment methods and case studies; and (4) preventing and Mitigating Risks. Supplemental information is provided in a number of appendices. Following the expert external peer review, EPA plans to issue a final research strategy on nanotechnology in mid-2008.

Dated: February 1, 2008.
Kevin Teichman,
Acting Deputy Assistant Administrator for Science, Office of Research and Development.

[FR Doc. E8-2697 Filed 2-12-08; 8:45 am]

BILLING CODE 6560-50-P